LIBRARY OF CONGRESS

Copyright Office

37 CFR Part 202

[Docket No. RM 2004-1]

“Best Edition” of Published Motion Pictures for the Collections of the Library of Congress

AGENCY: Copyright Office, Library of Congress.

ACTION: Final rule with request for comments.

SUMMARY: Owners of motion pictures that have been published must submit copies of their movies to the Copyright Office for the Library of Congress to use and include in its collections. This mandatory deposit requirement may be satisfied at the same time that an application for copyright registration is submitted. In order to obtain copies of superior quality when works are published in more than one format, the Library of Congress established “best edition” requirements. The purpose of this rule is to amend the best edition requirements for motion pictures to take into account recent technological developments and to make editorial changes that clarify the requirements.

DATES: Effective date: This rule shall take effect April 26, 2004.

Comment Date: Comments are due by March 29, 2004.

ADDRESSES: An original and ten copies of any comment shall be sent to the Copyright Office. If comments are mailed, the address is: Copyright Office GC/I&R, P.O. Box 70400, Southwest Station, Washington, DC 20024-0400. If comments are hand delivered by a commercial, non-government courier or messenger, comments must be delivered to: the Congressional Courier Acceptance Site, located at Second and D Streets, NE., between 8:30 a.m. and 4 p.m., e.s.t. If hand delivered by a private party, they must be delivered to the Public Information Office, James Madison Memorial Building, Room 401, First and Independence Street, Washington, DC between 8:30 a.m. and 5 p.m., e.s.t.

FOR FURTHER INFORMATION CONTACT: Marilyn J. Kretsinger, Associate General Counsel, or Renee Coe, Senior Attorney, Copyright GC/I&R, P.O. Box 70400, Southwest Station, Washington, DC 20024-0400. Telephone: (202) 707-8380. Telefax: (202) 707-8366.

SUPPLEMENTARY INFORMATION:

I. Background

Sections 407 and 408 of title 17, United States Code, require that owners of any motion picture that has been published must deposit a copy of the work with the Copyright Office for the use of the Library of Congress. The copy submitted must be the “best edition” of the work, which is “the edition, published in the United States, at any time before the date of deposit, that the Library of Congress determines to be most suitable for its purposes.” 17 U.S.C. 101 (definition of best edition). Based on that statutory requirement, the regulations require that “when two or more editions of the same version of a work have been published, the one of the highest quality is generally considered to be the best edition.” 37 CFR 202, App. B. The criteria for what constitutes the best edition, for all kinds of copyrighted works, are contained in Appendix B of 37 CFR 202, which is entitled ‘ “Best Edition’ of Published Copyrighted Works for the Collections of the Library of Congress.” Subpart III of Appendix B establishes the requirements for motion pictures, ranking movie formats for commercial and home viewing in descending order of preference relative to their quality, beginning with the format that is most suitable for the Library's purposes. This regulation amends subpart III to make changes that take into account recent technological developments and to make editorial changes that clarify the requirements.

II. Changes to Best Edition Rule

A. Film Formats

The only change to the requirements for film formats is to add 70 millimeter positive print as the most desirable film format (apart from preprint material, by special arrangement). The addition of this film format to the regulation clarifies the Library's desire to obtain published motion pictures in a superior format. This format is only required where the original production negative size is greater than 35 millimeters.

B. Video Formats

One-Inch Open Reel Tape. One-inch open reel tape has been deleted from subpart III of the best edition list because it is a defunct format.

BetacamSP, Digibeta and Betacam. Betacam SP will continue to be on the list and digibeta, also known as digital beta, has been added. These are videocassettes in analog and digital formats, respectively, that are now widely used in the television industry. Both are better quality than the format that is commonly known as “betacam,” which has been deleted from the list.

D-2. D-2 is an obsolete version of the D Series. The current version is D-9. However, the format for the D Series has been entirely eliminated from the list because each version rapidly becomes obsolete.

DVD and Videodisc. DVDs, which are 4¾ inch disks in digital format for home viewing of films, are replacing videodiscs on the list, which are 12 inch disks in analog format.

Three-Quarter Inch Cassette. Three-quarter inch cassette, also commonly known as “U-matic,” has been removed from the list because it is a defunct format.

One-Half Inch VHS Cassette and VHS Cassette. Changing “one-half inch VHS cassette” to “VHS cassette” is an editorial change. “VHS cassette” is now the commonly used term for this home viewing format.

III. Written Comments

The Copyright Office is publishing this amendment as a final rule because owners of published motion pictures have already begun complying with these changes to the best edition requirements. The Office believes these changes are noncontroversial and will elicit no significant adverse comment. However, the Office is providing the public an opportunity to submit written comments by March 29, 2004. The rule will take effect April 26, 2004, unless the Copyright Office has received adverse substantive comments and publishes a notice withdrawing the rule before that date.

IV. Regulatory Flexibility Act Statement

Although the Copyright Office, as a department of the Library of Congress and part of the Legislative Branch, is not an “agency” subject to the Regulatory Flexibility Act, 5 U.S.C. 601-612, the Register of Copyrights has considered the effect of the proposed amendment on small businesses. The Register has determined that the amendments would not have a significant economic impact on a substantial number of small business entities that would require a provision of special relief for them. The proposed amendments are designed to minimize any significant economic impact on small business entities.

List of Subjects in 37 CFR Part 202

Claims, Copyright.

Proposed Regulations

In consideration of the foregoing, the Copyright Office amends part 202 of 37 CFR in the manner set forth below:

PART 202—REGISTRATION OF CLAIMS TO COPYRIGHT

1. The authority citation for part 202 continues to read as follows:

Authority: 17 U.S.C. 702.

2. In part 202, Appendix. B, “III. Motion Pictures” is revised to read as follows:

Appendix B to Part 202—“Best Edition” of Published Copyrighted Works for the Collections of the Library of Congress

* * * * *

III. Motion Pictures

Film medium is considered a better quality than any other medium. The formats under “film” and “video formats” are listed in descending order of preference:

A. Film

1. Preprint material, by special arrangement

2. 70 mm positive print, if original production negative is greater than 35 mm

3. 35 mm positive prints

4. 16 mm positive prints

B. Video Formats

1. Betacam SP

2. Digital Beta (Digibeta)

3. DVD

4. VHS Cassette

* * * * *

Dated: February 11, 2004.
Marybeth Peters,
Register of Copyrights.
Approved by:
James H. Billington,
The Librarian of Congress.

[FR Doc. 04-3958 Filed 2-25-04; 8:45 am]

BILLING CODE 1410-30-P